FEDERAL COMMUNICATIONS COMMISSION

[FR ID 38285]

Deletion of Items From July 13, 2021 Open Meeting

July 13, 2021.

The following items have been adopted by the Commission and deleted from the list of items scheduled for consideration at the Tuesday, July 13, 2021, Open Meeting. These items were previously listed in the Commission's Notice of Tuesday July 6, 2021.

3 | MEDIA | TITLE: Updating Broadcast Radio Technical Rules (MB Docket No. 21-263).
|  | SUMMARY: The Commission will consider a Notice of Proposed Rulemaking to eliminate or amend outmoded or unnecessary broadcast technical rules.
6 | WIRELESS TELECOMMUNICATIONS | TITLE: Promoting Technological Solutions to Combat Contraband Wireless Device Use in Correctional Facilities (GN Docket No. 13-111).
|  | SUMMARY: The Commission will consider a Second Report and Order taking steps to combat contraband wireless devices in correctional facilities and Second Further Notice of Proposed Rulemaking seeking comment on additional technological solutions to combat contraband device usage in correctional facilities.

* * * * *

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Additional information concerning this meeting may be obtained from the Office of Media Relations, (202) 418-0500. Audio/Video coverage of the meeting will be broadcast live with open captioning over the internet from the FCC Live web page at www.fcc.gov/live.

Marlene Dortch,
Secretary.

[FR Doc. 2021-15495 Filed 7-20-21; 8:45 am]

BILLING CODE 6712-01-P